DEPARTMENT OF TRANSPORTATION

National Highway Traffic Safety Administration

49 CFR Part 571

[Docket No. NHTSA-2020-0111]

RIN 2127-AM31

Federal Motor Vehicle Safety Standards; Side Impact Protection, Ejection Mitigation; Technical Corrections

AGENCY: National Highway Traffic Safety Administration (NHTSA), Department of Transportation.

ACTION: Final rule; technical corrections.

SUMMARY: This final rule corrects errors in Federal Motor Vehicle Safety Standard (FMVSS) No. 214, “Side impact protection,” and in FMVSS No. 226, “Ejection mitigation.” The error occurred in FMVSS No. 214 when an amendment to FMVSS No. 214 was transcribed into the Code of Federal Regulations. The error to FMVSS No. 226 arose as a result of a drafting error when NHTSA issued FMVSS No. 226. This final rule amends the standards to reflect the intent of the Agency when it issued the standards.

DATES: This rule is effective December 29, 2020.

FOR FURTHER INFORMATION CONTACT: Mr. Vincent Wu or Mr. James Myers, NHTSA Office of Crashworthiness Standards, telephone 202-366-1740. Mailing address: 1200 New Jersey Avenue SE, West Building, Washington, DC 20590.

SUPPLEMENTARY INFORMATION: This document corrects minor errors in FMVSS No. 214, “Side impact protection,” and FMVSS No. 226, “Ejection mitigation.” The first error resulted when the Federal Register transcribed regulatory text for FMVSS No. 214. The second error occurred when the Agency drafted the regulatory text for FMVSS No. 226 in establishing the standard.

FMVSS No. 214

On September 11, 2007, NHTSA published a final rule that incorporated a vehicle-to-pole test in FMVSS No. 214, “Side impact protection.” ¹ In response to petitions for reconsideration of the rule,² NHTSA published a final rule on March 15, 2010 that, among other matters, corrected unit conversion errors in S6.1.2 and S6.1.3 of the standard.³ The March 15, 2010 final rule set forth the regulatory text for S6.1.3, “Peak crush resistance” as follows: “The peak crush resistance shall not be less than two times the curb weight of the vehicle or 31,138 N (7,000 lb), whichever is less.” 75 FR at 12140, col. 1 (emphasis added). Similar language was also included in the revised S6.2.3, which stated, “Peak crush resistance. The peak crush resistance shall not be less than three and one half times the curb weight of the vehicle or 53,378 N (12,000 lb), whichever is less.” Id. However, the phrase “whichever is less” was not included in S6.1.3 as published in the Code of Federal Regulations, though the phrase was included in S6.2.3 (49 CFR 571.214).

¹ 72 FR 51908.

² March 15, 2010, 75 FR 12140. This was the second response to petitions for reconsideration of the 2007 final rule.

³ S6.1.2 and S6.1.3 relate to Standard No. 214's door crush resistance requirements.

The door crush force requirements establish threshold protections for occupants from injury-causing intrusion into the occupant space that can occur during a side impact. The phrase “whichever is less” in S6.1.3 was meant to clarify which of the maximum door crush force levels applies to vehicles, depending upon the vehicle's curb weight.⁴ However, when the phrase was mistakenly eliminated, it created ambiguity and potentially implied that S6.1.3 required higher forces to be used than NHTSA had intended. Without the phrase, there is potential for manufacturer confusion and the possibility that some may certify to an overly stringent door crush force requirement than NHTSA intended. NHTSA (and, we believe, industry as a whole) has applied S6.1.3 with the understanding and effect that the “whichever is less” language was meant to be as it is in S6.2.3—see, e.g., NHTSA's test procedure (TP) manual for FMVSS No. 214 issued by NHTSA's Office of Vehicle Safety Compliance for testing vehicles to Standard No. 214. The TP has always aligned with the correct original regulatory text.⁵ That said, the absence of the phrase reduces the clarity of S6.1.3 and introduces an unintended ambiguity that NHTSA would like to correct. This technical amendment corrects the error by adding “whichever is less” back in S6.1.3.

⁴ Prior to the error, a vehicle with a curb weight less than 3,500 lb (“vehicle A”) could have met a force requirement of 2 times the vehicle curb weight, which would be a load of less than 7,000 lb. Similarly, prior to the error, a vehicle with a curb weight greater than 3,500 lb (“vehicle B”) could have met a force requirement of 7,000 lb. After the error, the option was removed, so under S6.1.3, vehicle A was also subject to a test with a load of 7,000 lb, and vehicle B was also subject to a load of two times its curb weight. NHTSA did not intend for the vehicles to have to be certified to both a force requirement of two times the curb weight and a 7,000 lb requirement.

⁵ https://one.nhtsa.gov/DOT/NHTSA/Vehicle%20Safety/Test%20Procedures/Associated%20Files/TP-214-s05.pdf.

FMVSS No. 226

On January 19, 2011, NHTSA published a final rule establishing FMVSS No. 226, “Ejection mitigation.” The final rule intended to exclude from the applicability of the standard vehicles with no doors or with doors that are designed to be easily attached or removed so the vehicle can be operated without doors. In the notice of proposed rulemaking (NPRM) preceding the final rule, the Agency requested comment on whether “[v]ehicles that have no doors, or exclusively have doors that are designed to be easily attached or removed so that the vehicle can be operated without doors” were still being produced.⁶ NHTSA further explained that, “Assuming the vehicles are being manufactured, NHTSA proposes excluding the vehicles on practicability grounds,” and requested comment on the issue.⁷ Subsequently, in the final rule, NHTSA proceeded to exclude the vehicles in the text of the preamble. The Agency made its intent to exclude the vehicles in the final rule clear, explaining in the preamble that: “Comments were requested but none were received on whether vehicles are still being manufactured that have no doors, or exclusively have doors that are designed to be easily attached or removed so that the vehicle can be operated without doors. NHTSA proposed excluding these vehicles on practicability grounds. This final rule adopts the exclusion.” ⁸

⁶ 74 FR 63180, 63220; December 2, 2009.

⁷ Id.

⁸ 76 FR 3291.

However, notwithstanding the Agency's clear intent expressed by that preamble text, NHTSA inadvertently did not include this exclusion in the final rule's regulatory text, so it is not reflected in FMVSS No. 226 as set forth in the CFR (49 CFR 571.226). The practical effect of this error is likely inconsequential, because since the effective date of FMVSS No. 226, NHTSA has applied the standard as excluding such vehicles from FMVSS No. 226. Regardless, even if the practical effect of the error is inconsequential, NHTSA would like to correct this drafting error by adding the exclusion of the vehicles to S2, “Application,” of the standard.

Effective Date

NHTSA is making the changes effective on publication in the Federal Register. NHTSA is issuing these corrections in a final rule because NHTSA finds that notice and comment are unnecessary. The amendment to FMVSS No. 214 corrects an error that arose with publication of the standard in the CFR. The correction to FMVSS No. 226 is made to correct NHTSA's drafting error when the Agency issued the standard. The correcting amendments simply make technical corrections to align the regulatory text with NHTSA's expressed intent when the Agency issued the standards concerning the performance standard in No. 214 and the application of No. 226. The practical effect of these corrections is inconsequential. For the above reasons, NHTSA finds good cause for making this correcting amendment effective on publication in the Federal Register.

Regulatory Notices and Analyses

Executive Orders 12866 and 13563 and DOT Rulemaking Procedures

NHTSA has considered the impact of this final rule under Executive Orders (E.O.) 12866 and 13563, as well as under the Department of Transportation's administrative rulemaking procedures set forth in 49 CFR part 5, subpart B. This final rule makes technical corrections and is not considered significant under these Executive orders. The rule corrects the regulatory text to align it with the Agency's intent in drafting the language at issue. There are no costs or benefits associated with this technical correction because the Agency has been operating as if the language changes included in this final rule have been in effect since the publication of the earlier final rules.

Executive Order 13771 (Regulatory Reform)

As this final rule is nonsignificant, it is not subject to the offset requirements of E.O. 13771.

National Environmental Policy Act

This final rule correcting the standards at issue will not have an adverse impact on the quality of the human environment.

Regulatory Flexibility Act

Pursuant to the Regulatory Flexibility Act (RFA) (5 U.S.C. 601 et seq.), as amended by the Small Business Regulatory Enforcement Fairness Act (SBREFA) of 1996, I certify that this final rule will not have a significant impact on a substantial number of small entities. This rule simply makes technical corrections and is not expected to have an impact on any entities.

Executive Orders 13132 (Federalism)

NHTSA has examined today's final rule pursuant to E.O. 13132 (64 FR 43255, August 10, 1999) and concluded that no additional consultation with States, local governments or their representatives is mandated beyond the rulemaking process. This final rule simply makes technical corrections and does not have sufficient federalism implications to warrant consultation with State and local officials or the preparation of a federalism summary impact statement. The rule will not have substantial direct effects on the States, on the relationship between the National Government and the States, or on the distribution of power and responsibilities among the various levels of government.

Executive Order 12988 (Civil Justice Reform)

When promulgating a regulation, E.O. 12988, “Civil Justice Reform” (61 FR 4729; February 7, 1996), specifically requires that the Agency must make every reasonable effort to ensure that the regulation, as appropriate: (1) Specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

Pursuant to this order, NHTSA notes as follows. The preemptive effect of this final rule is discussed above in connection with E.O. 13132. This rule simply makes technical corrections and does not have any retroactive effect. There is no requirement that individuals submit a petition for reconsideration or pursue other administrative proceedings before they may file suit in court.

Executive Order 13609: Promoting International Regulatory Cooperation

This final rule simply makes technical corrections and will have no effect on international regulatory cooperation.

National Technology Transfer and Advancement Act

This final rule simply makes technical corrections. There are no voluntary consensus standards that apply to this final rule.

Unfunded Mandates Reform Act

This final rule only makes technical corrections and is not subject to the Unfunded Mandates Reform Act of 1995. There are no costs associated with this rule.

Paperwork Reduction Act

There are no Paperwork Reduction Act requirements associated with this technical correction.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an organization, business, labor union, etc.). You may review DOT's complete Privacy Act statement in the Federal Register published on April 11, 2000 (65 FR 19477-78) or you may visit http://www.dot.gov/privacy.html.

List of Subjects in 49 CFR Part 571

Imports, Motor vehicle safety, Motor vehicles, Rubber and rubber products, Tires.

Accordingly, 49 CFR part 571 is amended by making the following correcting amendments:

PART 571—FEDERAL MOTOR VEHICLE SAFETY STANDARDS

1. The authority citation for part 571 of title 49 continues to read as follows:

Authority: 49 U.S.C. 322, 30111, 30115, 30117, and 30166; delegation of authority at 49 CFR 1.95.

2. Section 571.214 is amended by revising S6.1.3 to read as follows:

§ 571.214 Standard No. 214; Side impact protection.

* * * * *

S6.1.3 Peak crush resistance. The peak crush resistance shall not be less than two times the curb weight of the vehicle or 31,138 N (7,000 lb), whichever is less.

* * * * *

2. Section 571.226 is amended by revising S2 to read as follows:

§ 571.226 Standard No. 226; Ejection mitigation.

* * * * *

S2. Application. This standard applies to passenger cars, and to multipurpose passenger vehicles, trucks and buses with a gross vehicle weight rating of 4,536 kg or less, except walk-in vans, modified roof vehicles, convertibles, and vehicles with no doors or with doors that are designed to be easily attached or removed so the vehicle can be operated without doors. Also excluded from this standard are law enforcement vehicles, correctional institution vehicles, taxis and limousines, if they have a fixed security partition separating the 1st and 2nd or 2nd and 3rd rows and if they are produced by more than one manufacturer or are altered (within the meaning of 49 CFR 567.7).

* * * * *

Issued in Washington, DC, under authority delegated in 49 CFR 1.95.
James C. Owens,
Deputy Administrator.

[FR Doc. 2020-27543 Filed 12-28-20; 8:45 am]

BILLING CODE 4910-59-P